FEDERAL COMMUNICATIONS COMMISSION

[CG Docket Nos. 10-51 and 03-123, WC Docket Nos. 05-196 and 10-191; DA 14-1249]

Request for Comment on Petition Filed by Sprint Corporation Regarding Access to the Internet Based Telecommunications Relay Service Numbering Directory

AGENCY: Federal Communications Commission.

ACTION: Notice.

SUMMARY: In this document, the Federal Communications Commission (Commission) seeks comment on a Sprint Corporation (Sprint) petition (Sprint Petition) requesting a limited waiver of the Commission's rule regarding access to the Internet based telecommunications relay service (TRS) numbering directory in order to allow Sprint, as the provider of Federal Relay services, to load telephone numbers for its federal video relay service (VRS), including “front door” toll-free telephone numbers and ten-digit numbers, into the TRS Numbering Directory.

DATES: Comments are due September 30, 2014 and reply comments are due October 10, 2014.

ADDRESSES: You may submit comments, identified by CG Docket Nos. 10-51 and 03-123, WC Docket Nos. 05-196 and 10-191, by any of the following methods:

• Electronic Filers: Comments may be filed electronically using the Internet by accessing the Commission's Electronic Comment Filing System (ECFS), through the Commission's Web site http://fjallfoss.fcc.gov/ecfs2/. Filers should follow the instructions provided on the Web site for submitting comments. For ECFS filers, in completing the transmittal screen, filers should include their full name, U.S. Postal service mailing address, and CG Docket Nos. 10-51 and 03-123, WC Docket Nos. 05-196 and 10-191.

• Paper filers: Parties who choose to file by paper must file an original and one copy of each filing. If more than one docket or rulemaking number appears in the caption of this proceeding, filers must submit one additional copy for each additional docket or rulemaking number. Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th Street SW., Room TW-A325, Washington, DC 20554. All hand deliveries must be held together with rubber bands or fasteners. Any envelopes must be disposed of before entering the building.

• Commercial Mail sent by overnight mail (other than U.S. Postal Service Express Mail and Priority Mail) must be sent to 9300 East Hampton Drive, Capitol Heights, MD 20743.

• U.S. Postal Service first-class, Express, and Priority mail should be addressed to 445 12th Street SW., Washington, DC 20554.

For detailed instructions for submitting comments and additional information on the rulemaking process, see the SUPPLEMENTARY INFORMATION section of this document.

FOR FURTHER INFORMATION CONTACT: Gregory Hlibok, Consumer and Governmental Affairs Bureau, Disability Rights Office, (202) 559-5158, email: Gregory.Hlibok@fcc.gov.

SUPPLEMENTARY INFORMATION: This is a summary of the Commission's Public Notice, document DA 14-1249, released on August 27 2014. The full text of document DA 14-1249, the Sprint Petition, and any subsequently filed documents in this matter will be available for public inspection and copying via ECFS, and during regular business hours at the FCC Reference Information Center, Portals II, 445 12th Street SW., Room CY-A257, Washington, DC 20554. It also may be purchased from the Commission's duplicating contractor at its Web site, www.bcpiweb.com or call 1-800-378-3160. A copy of the submission may also be found by searching on ECFS (insert CG Docket Nos. 10-51 & 03-123, and WC Docket Nos. 05-196 & 10-191 in the Proceeding block). To request materials in accessible formats for people with disabilities (Braille, large print, electronic files, audio format), send an email to fcc504@fcc.gov or call the Consumer and Governmental Affairs Bureau at (202) 418-0530 (voice), (202) 418-0432 (TTY).

Synopsis

1. On January 16, 2014, Sprint filed a petition requesting a limited waiver of the Commission rule, 47 CFR 64.613(a)(4), that restricts access to the TRS Numbering Directory by the TRS Numbering Administrator and Internet-based TRS providers. Specifically, Sprint requests a waiver of this rule to allow Sprint, as a provider of Federal Relay services, to load telephone numbers for its federal VRS, including “front door” toll-free numbers and ten-digit numbers, into the iTRS Numbering Directory. Sprint asserts that because these numbers are not currently in the TRS Numbering Directory, federal employees who are deaf or hard-of-hearing and have been assigned a Federal VRS number are unable to make point-to point video calls to other deaf or hard-of-hearing federal employees. Sprint further asserts that permitting these “front door” telephone numbers and ten-digit numbers into the database will allow deaf and hard-of-hearing federal employees to make point-to-point video calls, increase the ability of deaf and hard-of-hearing Americans to reach federal employees and reduce the number of calls that must be supported by the Interstate TRS Fund. This Notice seeks public comment on Sprint's petition.

Federal Communications Commission.
Karen Peltz Strauss,
Deputy Chief, Consumer and Governmental Affairs Bureau.

[FR Doc. 2014-21987 Filed 9-12-14; 8:45 am]

BILLING CODE 6712-01-P